FEDERAL COMMUNICATIONS COMMISSION

[DA 02-361]

Current and Future Spectrum Use by the Energy, Water, and Railroad Industries

AGENCY: Federal Communications Commission.

ACTION: Notice.

SUMMARY: In this document the FCC seeks comment on the findings of the National Telecommunications and Information Administration Report, released January 30, 2002, titled “Current and Future Spectrum Use by the Energy, Water, and Railroad Industries”. Congress requires the FCC to submit a report to Congress addressing any needs identified from NTIA's Report. Comments received on NTIA's report will aid the Commission in preparing its report to Congress.

DATES: Written comments are due on or before March 6, 2002 and reply comments are due on or before March 18, 2002.

ADDRESSES: Office of the Secretary, Federal Communications Commission, 445 Twelfth Street, SW., TW-325, Washington, DC 20054.

FOR FURTHER INFORMATION CONTACT: . John J. Schauble, Esq., Chief, Policy and Rules Branch, Public Safety and private Wireless Division, Wireless Telecommunications Bureau, at (202) 418-0680, or via e-mail to jschaubl@fcc.gov.

SUPPLEMENTARY INFORMATION: The full text of the NTIA Report, comments and reply comments will be available for public inspection and duplication during regular business hours at the FCC Reference Information Center (RIC) of the Consumer Information Bureau (CIB), Federal Communications Commission, 445 Twelfth Street, SW., Room CY-A257, Washington, DC, 20554. The full text of the NTIA Report is also available at NTIA's Web site at http://www.ntia.doc.gov/osmhome/reports.html. This document may also be purchased from the Commission's duplicating contractor, Qualex International, Portals II, 445 12th Street, SW., Room CY-B402, Washington, DC 20554, DC 20036, telephone (202) 863-2393; facsimile (202) 863-2898, or via e-mail qualexint@aol.com. For further information regarding the public reference file for the Report contact Maria Ringold, Chief, Wireless Branch, RIC, (202) 418-1355.

1. On January 30, 2002, the U.S. Department of Commerce, National Telecommunications and Information Administration (NTIA) released a Report entitled “Current and Future Spectrum Use by the Energy, Water, and Railroad Industries” (NTIA Report). This report was mandated by Public Law Number (PL No.) 106-533. Under this legislation, NTIA was directed to submit to the U.S. Congress a study of current and future spectrum use by providers of energy, water, and railroad services to protect and maintain the nation's critical infrastructure. The statute also requires the Federal Communications Commission (FCC) to submit a subsequent report to Congress addressing any needs identified in NTIA's study.

2. The NTIA Report contains a compilation of the responses received to its “Request for Comments” from members of the utilities industry and various trade organizations. In its “Request for Comments,” NTIA sought information on any issue of fact, law or policy that might inform the agency about spectrum requirements of the industry taking into account growth, new technology, and future applications. NTIA also received information from federal governmental departments and agencies that exercise oversight of energy, water and railroad industries, as well as from industry certified frequency coordinators. The Report also reflects the information received from members of the Interdepartment Radio Advisory Committee (IRAC). Information also was obtained from the Public Safety Wireless Network (PSWN).

3. In the NTIA Report, NTIA found that energy, water and railroad services are primary components of the nation's critical infrastructure and that the continued use of spectrum is essential to the current and future operations of these industries. The NTIA Report submits that without adequate radio spectrum, providers of energy, water and railroad services would be unable to address major service interruptions due to natural disaster, equipment malfunctions or in some cases, terrorist activities. According to NTIA, these industries believe that additional spectrum is needed—specifically for exclusive use—because of existing congestion problems. Commenters stated that commercial wireless services do not adequately service these industries' needs due to issues of compatibility, reliability, and cost-effectiveness. The NTIA Report also finds a lack of consensus among the commenters as to where new spectrum can be reallocated or obtained. NTIA received limited response on the issue of whether these industries use spectrum-efficient technology. NTIA concludes that it is unable to validate the specific spectrum requirements of the energy, water and railroad industries. It suggests, however, that the industries' needs may be addressed by use of advanced communications technology or newly allocated frequency bands.

4. All Parties should reference the NTIA report including the DA number of this Public Notice, a copy of each filing should be sent to (1) Qualex International, Portals II, 445 12th Street, SW., Room CY-B402, Washington, DC 20554, DC 20036, telephone (202) 863-2393; (2) John J. Schauble, Esq., Federal Communications Commission, Wireless Telecommunications Bureau, Public Safety and Private Wireless Division, Policy and Rules Branch, 445 Twelfth Street, SW., Room 4-C336, Washington, DC 20554; and (3) Maria Ringold, Federal Communications Commission, Consumer Information Bureau, Reference Information Center, 445 Twelfth Street, SW., Room CY-B529, Washington, DC 20554.

Federal Communications Commission.
William F. Caton,
Acting Secretary.

[FR Doc. 02-4798 Filed 2-26-02; 8:45 am]

BILLING CODE 6712-01-P